DEPARTMENT OF THE INTERIOR

Bureau of Land Management

[NV-020-1990-EX]

Final Environmental Impact Statement; Glamis/Marigold Mine Expansion Project, Humboldt Co., NV

AGENCY: Bureau of Land Management, Interior.

ACTION: Notice of availability.

SUMMARY: Pursuant to section 102(2)(c) of the National Environmental Policy Act of 1969, notice is given that the Winnemucca Field Office of the Bureau of Land Management (BLM) has prepared, by third party contractor, a Final Environmental Impact Statement on the Glamis/Marigold Mine Expansion Project, located in Humboldt County, Nevada.

EFFECTIVE DATES: The Final Environmental Impact Statement will be distributed and made available to the public on March 9, 2001. The period of availability for public review for the Final Environmental Impact Statement ends April 9, 2001. At that time a Record of Decision will be issued regarding the Proposed Action.

ADDRESSES: A copy of the Final Environmental Impact Statement can be obtained from: Bureau of Land Management, Winnemucca Field Office, 5100 East Winnemucca Blvd., Winnemucca, Nevada 89445.

FOR FURTHER INFORMATION CONTACT: Jeffrey D. Johnson, Project Manager, at the above Winnemucca Field Office address or telephone (775) 623-1500.

SUPPLEMENTARY INFORMATION: The Final Environmental Impact Statement has been produced in its entirety the analysis originally presented in the Draft Environmental Impact Statement (issued February 11, 2000). The Final Environmental Impact Statement analyzes the direct, indirect and cumulative impacts related to expansion of existing mine facilities (pits, overburden dumps & heap leach pads) and development of the 8-North and 5-North deposits. Development of these deposits includes construction of two new pits, overburden disposal areas, additional heap leach facilities, new tailing impoundment, drainage diversions, haul and exploration roads and ancillary facilities.

Alternatives analyzed include the Proposed Action, No Action, and the 8-South Partial Pit Backfill alternative. The Bureau of Land Management's preferred alternative is the 8-South Partial Pit backfill as described in the Final Environmental Impact Statement. The Final Environmental Impact Statement also responds to issues raised during the scoping period and comments received on the Draft Environmental Impact Statement.

Dated: February 22, 2001.
Douglas Dodge,
Acting Associate Field Manager.

[FR Doc. 01-5655 Filed 3-8-01; 8:45 am]

BILLING CODE 4310-HC-U